DEPARTMENT OF HEALTH AND HUMAN SERVICES

Administration for Children and Families

Submission for Office of Management and Budget Review; Federal Case Registry (Office of Management and Budget #0970-0421)

AGENCY: Office of Child Support Enforcement, Administration for Children and Families, United States Department of Health and Human Services.

ACTION: Request for public comments.

SUMMARY: The Office of Child Support Enforcement (OCSE), Administration for Children and Families (ACF), is requesting from the Office of Management and Budget (OMB) to extend approval of the Federal Case Registry (FCR) for an additional three years. The current approval expires November 30, 2023. OCSE is proposing minor changes to punctuation, formatting, grammar, clarity, and spacing to enable easier completion of the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The FCR is a national database of information pertaining to child support cases processed by state child support agencies, referred to as “IV-D” cases, and non-IV-D support orders privately established or modified by courts or tribunals on or after October 1, 1998. FCR information is comprised of child support orders and case information from each State Case Registry (SCR). The FCR automatically compares new SCR submissions to existing FCR information and to wage and employment information in the National Directory of New Hires. The Federal Parent Locator Service notifies state agencies if a IV-D case participant in the state matches a participant in a IV-D or non-IV-D case in another state and supplies any matched wage and employment information. Matches enable state agencies to locate parties that live in different states to establish, modify, or enforce child support obligations; to establish paternity; to enforce state law regarding parental kidnapping; and to establish or enforce child custody or visitation determinations.

The FCR instrument, Appendix G: Input Record Layout, contains minor changes in punctuation, formatting, grammar, clarity, and spacing to enable easier completion of the form.

Respondents: State child support enforcement agencies.

Annual Burden Estimates
Instrument | Total number of respondents | Annual number of responses per respondent | Average burden hours per response | Annual burden hours
Appendix G: Input Transactions Layout | 54 | 406 | 0.033 | 730

Estimated Total Annual Burden Hours: 730.

Authority: 42 U.S.C. 653(h); 42 U.S.C. 654a(e); 42 U.S.C. 654a(f)(1).

Mary B. Jones,
ACF/OPRE Certifying Officer.

[FR Doc. 2023-22809 Filed 10-16-23; 8:45 am]

BILLING CODE 4184-41-P